DEPARTMENT OF HOMELAND SECURITY

Coast Guard

[USCG-2003-16796]

Secretarial Authorization for Certain Members and Employees of the U.S. Coast Guard to Serve on the Board of Control, Coast Guard Mutual Assistance

AGENCY: Coast Guard, DHS.

ACTION: Notice.

SUMMARY: The Commandant of the Coast Guard has authorized certain Coast Guard personnel to serve on the Board of Control of Coast Guard Mutual Assistance, a non-federal military-welfare entity. These personnel will provide coordination, oversight, and advice to the management of the Coast Guard's Mutual Assistance Program.

FOR FURTHER INFORMATION CONTACT: CDR William J. Ziegler, (202) 267-2998.

SUPPLEMENTARY INFORMATION: Under authority of 10 U.S.C. 1033 and 1589, the Commandant of the Coast Guard, as authorized by the Secretary of Homeland Security, under Department of Homeland Security Delegation No. 0170.1, has authorized the following members and employees of the Coast Guard to serve, without compensation, on the Board of Control of the Coast Guard Mutual Assistance. Participation of the designated officials in the activities of Coast Guard Mutual Assistance will not extend to participation in day-to-day operations.

Officers: Commandant of the Coast Guard, Admiral Thomas H. Collins, USCG (Chairman) (term began May 2002 and continues while ADM Collins serves as Commandant);

Assistant Commandant for Human Resources, Rear Admiral Kenneth T. Venuto, USCG (President) (term began July 2002 and continues while RADM Venuto serves as Assistant Commandant for Human Resources); and

Commander Pat Hannifin, USCG (Vice President) (July 2003-June 2006).

Members: Commander William J. Ziegler, USCG (July 2003-June 2006);

Lieutenant Commander Sheryl L. Dickinson, USCG (May 2003-June 2006);

Ensign Cari Bower, USCGR (May 2003-June 2006);

Chief Warrant Officer Jamie A. Rambo, USCG (July 2002-June 2005);

Master Chief Petty Officer Frank Welch, USCG (term began October 2002 and continues while MCPOCG Welch serves as the Master Chief Petty Officer of the Coast Guard);

Master Chief Petty Officer Charles W. Bowen, USCG (July 2002-June 2005);

Petty Officer First Class John E. Healy, USCG (July 2002-June 2005);

Petty Officer First Class Lawrence J. Connell, USCG (July 2003-June 2006);

Ms. Janice L. Gray (July 2002-June 2005);

Ms. Marta E. Denchfield (July 2001-June 2004);

Mr. Jay Fowler (July 2003-June 2006); and

Mrs. Jennifer Rechsteiner (July 2003-June 2006).

Alternates: Chief Petty Officer Rockwood Ennis, USCG (term began December 2000 and continues while MCPOCG Welch serves as the Master Chief Petty Officer of the Coast Guard);

Master Chief Petty Officer Edna M. Doak, USCGR (July 2002-June 2005);

Petty Officer Third Class Caleb C. Mitson, USCG (July 2003-June 2006).

Authority: 10 U.S.C. 1033, 1589; Department of Homeland Security Delegation No. 0170.1 (2) (14).

Dated: December 29, 2003.
Kenneth T. Venuto,
Rear Admiral, U.S. Coast Guard, Assistant Commandant for Human Resources.

[FR Doc. 04-225 Filed 1-5-04; 8:45 am]

BILLING CODE 4910-15-P